DEPARTMENT OF THE INTERIOR

Fish and Wildlife Service

[FWS-R3-ES-2012-N116: FXES11130300000D2-123-FF03E00000]

Iris Lacustris (Dwarf Lake Iris); Draft Recovery Plan for Review and Comment

AGENCY: Fish and Wildlife Service, Interior.

ACTION: Notice of document availability.

SUMMARY: The U.S. Fish and Wildlife Service (Service) announces availability for public review of the draft recovery plan for the Iris lacustris (dwarf lake iris), a species that is federally listed as threatened under the Endangered Species Act of 1973 (Act), as amended. The species grows along the northern shorelines of Lakes Michigan and Huron, in the U.S. States of Wisconsin and Michigan and in Ontario, Canada. The purpose of the recovery plan is to recover this species in order that it can be removed from the list of Endangered and Threatened Plants. The Service solicits review and comment from the public on this draft plan.

DATES: Comments on the draft recovery plan must be received on or before June 29, 2012.

ADDRESSES: Persons wishing to review the draft recovery plan may obtain a copy by contacting the Field Supervisor, U.S. Fish and Wildlife Service, Ecological Services Field Office, 2651 Coolidge Road, Suite 101, East Lansing, MI 48823 (telephone 517-351-2555) or by accessing the Web site: http://midwest.fws.gov/Endangered.

FOR FURTHER INFORMATION CONTACT: Ms. Barbara Hosler, at the above address and telephone. TTY users may contact Ms. Hosler through the Federal Relay Service at 800-877-8339.

SUPPLEMENTARY INFORMATION:

Background

Recovery Program

Restoring an endangered or threatened animal or plant to the point where it is again a secure self-sustaining member of its ecosystem is a primary goal of the Service's endangered species program. To help guide the recovery effort, the Service is working to prepare recovery plans for most of the federally listed threatened and endangered species native to the United States. Recovery plans describe actions considered necessary for conservation of the species, establish criteria for reclassification and delisting, and provide estimates of the time and costs for implementing the recovery measures needed.

The Act requires the development of recovery plans for listed species unless such a plan would not promote the conservation of a particular species. Section 4(f) of the Act, as amended in 1988, requires public notice and opportunity for public review and comment be provided during recovery plan development. The Service will consider all information presented during a public comment period prior to approval of each new or revised recovery plan. The Service and other Federal agencies will also take these comments into consideration in the course of implementing approved recovery plans.

Dwarf Lake Iris

The dwarf lake iris was listed as threatened on October 28, 1988 (via a final rule published on September 28, 1988; 53 FR 37972), under the provisions of the Endangered Species Act of 1973, as amended (16 U.S.C. 1531 et seq.). The species grows along the northern shorelines of Lakes Michigan and Huron, in the U.S. States of Wisconsin and Michigan and in Ontario, Canada. Of 165 known occurrences, many lie on private property where awareness of the species' presence and significance is limited. Direct loss of plants and habitat is continuing and is expected to accelerate due to people's high demand of shoreline properties for development and recreation.

Dwarf lake iris typically grows in shallow soil over moist calcareous sands, gravel, and beach rubble. Sunlight is one of the most critical factors to the growth and reproduction of the species, and partly shaded or sheltered forest edges are optimal for sexual reproduction. Some form of disturbance is also required to maintain the forest openings that provide these partial shade conditions. The species is most often associated with shoreline coniferous forests dominated by northern white cedar and balsam fir. The principal limiting factor for dwarf lake iris is the availability of this suitable shoreline habitat.

Recovery Criteria

The dwarf lake iris will be considered for delisting when the likelihood of the species becoming threatened in the foreseeable future has been eliminated by the achievement of three criteria:

Criterion 1

The species has a 95 percent probability of persistence within the next 20 years, based on data obtained from accepted standardized monitoring methods and on population viability analysis. In order to meet this criterion, the following must be verified:

1.a. There is a sufficient number and geographical distribution of element occurrences required to ensure long-term persistence, and

1.b. Each element occurrence needed to ensure a 95-percent probability of persistence within the next 20 years must meet a minimum viable population size and exhibit an increasing or stable population trend over a 10-year period.

Criterion 2

Management plans have been developed and are being implemented to protect and manage the habitat associated with the element occurrences identified in Criterion 1.b.

Criterion 3

A plan to provide public outreach and education for dwarf lake iris has been developed and is being implemented. Additional detail on these delisting criteria is available in the draft recovery plan.

The above three criteria will be met through the following actions: (1) Protect occurrences; (2) Manage and restore habitat; (3) Inventory and monitor known sites; (4) Conduct population viability analysis; (5) Develop an education program about dwarf lake iris, other federally listed shoreline species, natural communities, and their protection and management; (6) Improve understanding of baseline dwarf lake iris ecology; and (7) Review and track recovery progress.

Public Comments Solicited

The Service solicits written comments on the draft recovery plan. All comments received by the date specified will be considered prior to approval of the plan. Written comments and materials regarding the plan should be sent to the Field Supervisor, Ecological Services Field Office (see ADDRESSES). Comments received will be available for public inspection by appointment during normal business hours.

Availability of Public Comments

Before including your address, phone number, email address, or other personal identifying information in your comment, you should be aware that your entire comment—including your personal identifying information—may be made publicly available at any time. While you may ask us in your comment to withhold your personal identifying information from public review, we cannot guarantee that we will be able to do so.

Authority

The authority for this action is section 4(f) of the Endangered Species Act, 16 U.S.C. 1533(f).

Dated: May 10, 2012.
Thomas O. Melius,
Regional Director, U. S. Fish & Wildlife Service, Midwest Region.

[FR Doc. 2012-13046 Filed 5-29-12; 8:45 am]

BILLING CODE P